DEPARTMENT OF TRANSPORTATION

Federal Aviation Administration

14 CFR Part 39

[Docket No. FAA-2009-0645; Directorate Identifier 2009-NM-034-AD; Amendment 39-15973; AD 2009-15-10]

RIN 2120-AA64

Airworthiness Directives; Airbus Model A330-301, -321, -322, -341, and -342 Series Airplanes, and Airbus Model A340-211, -212, -213, -311, -312, and -313 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

During accomplishment of A330-300 Airworthiness Limitation Item (ALI) task 57.11.04-01-02 of a fastener hole between stringer 38 and 39 at FR40 rear fitting web, a crack was found on an adjacent hole at vertical post Y1959 lower attachment on both sides.

Other crack findings on this adjacent hole have been reported on A330-300 and A340-200/-300 aircraft as a result of sampling inspections.

If not corrected, crack propagation could result in loss of the fuselage structural integrity.

* * * * *

This AD requires actions that are intended to address the unsafe condition described in the MCAI.

DATES: This AD becomes effective August 5, 2009.

The Director of the Federal Register approved the incorporation by reference of certain publications listed in the AD as of August 5, 2009.

We must receive comments on this AD by August 20, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued EASA Airworthiness Directive 2009-0001, dated January 8, 2009 (referred to after this as “the MCAI”), to correct an unsafe condition for the specified products. The MCAI states:

During accomplishment of A330-300 Airworthiness Limitation Item (ALI) task 57.11.04-01-02 of a fastener hole between stringer 38 and 39 at FR40 rear fitting web, a crack was found on an adjacent hole at vertical post Y1959 lower attachment on both sides.

Other crack findings on this adjacent hole have been reported on A330-300 and A340-200/-300 aircraft as a result of sampling inspections.

If not corrected, crack propagation could result in loss of the fuselage structural integrity.

In order to fulfil[l] the certification requirements and following a fatigue analysis based on reported findings, a repetitive High Frequency Eddy Current (HFEC) Rototest inspection on the affected adjacent holes on both left hand (LH) and right hand (RH) sides between stringer 38 and 39 at FR40 rear fitting web is required by this AD and, in case of crack finding, the associated corrective actions have to be applied.

The associated corrective actions are oversizing the holes and performing an additional rototest inspection for cracking. If the cracking is within certain limits, the corrective action is to install oversize fasteners. If the cracking exceeds certain limits defined in the service bulletin, the corrective action is contacting Airbus for repair instructions and doing the repair. You may obtain further information by examining the MCAI in the AD docket.

Relevant Service Information

Airbus has issued Mandatory Service Bulletin A330-57-3107, including Appendices 01 and 02, dated October 7, 2008; and Mandatory Service Bulletin A340-57-4117, including Appendices 01 and 02, dated October 7, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2009-0645; Directorate Identifier 2009-NM-034-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. Subtitle VII: “Aviation Programs,” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-15-10 Airbus: Amendment 39-15973. Docket No. FAA-2009-0645; Directorate Identifier 2009-NM-034-AD.

Effective Date

(a) This airworthiness directive (AD) becomes effective August 5, 2009.

Affected ADs

(b) None.

Applicability

(c) This AD applies to the airplanes certificated in any category, identified in paragraphs (c)(1) and (c)(2) of this AD.

(1) Airbus Model A330-301, -321, -322, -341, and -342 series airplanes, all serial numbers, except those on which Airbus Modification 44360 has been embodied in production.

(2) Airbus Model A340-211, -212, -213, -311, -312, and -313 series airplanes, all serial numbers, except those on which Airbus Modification 44360 has been embodied in production.

Subject

(d) Air Transport Association (ATA) of America Code 57: Wings.

Reason

(e) The mandatory continued airworthiness information (MCAI) states:

During accomplishment of A330-300 Airworthiness Limitation Item (ALI) task 57.11.04-01-02 of a fastener hole between stringer 38 and 39 at FR40 rear fitting web, a crack was found on an adjacent hole at vertical post Y1959 lower attachment on both sides.

Other crack findings on this adjacent hole have been reported on A330-300 and A340-200/-300 aircraft as a result of sampling inspections.

If not corrected, crack propagation could result in loss of the fuselage structural integrity.

In order to fulfil[l] the certification requirements and following a fatigue analysis based on reported findings, a repetitive High Frequency Eddy Current (HFEC) Rototest inspection on the affected adjacent holes on both left hand (LH) and right hand (RH) sides between stringer 38 and 39 at (frame) FR40 rear fitting web is required by this AD and, in case of crack finding, the associated corrective actions have to be applied.

* * * * *

The associated corrective actions are oversizing the holes and performing an additional rototest inspection for cracking. If the cracking is within certain limits, the corrective action is to install oversize fasteners. If the cracking exceeds certain limits defined in the service bulletin, the corrective action is contacting Airbus for repair instructions and doing the repair.

Actions and Compliance

(f) Unless already done, do the following actions.

(1) Within the applicable time as specified in Table 1 of this AD, or within 90 days after the effective date of this AD, whichever occurs later: Perform a HFEC inspection by rototest for cracking of two holes on the left and right sides of the fuselage structure FR40 rear fitting, in accordance with the Accomplishment Instructions of Airbus Mandatory Service Bulletin A330-57-3107, dated October 7, 2008; or Airbus Mandatory Service Bulletin A340-57-4117, dated October 7, 2008; as applicable. Do the associated corrective actions, before further flight, in accordance with the Accomplishment Instructions of Airbus Mandatory Service Bulletin A330-57-3107, dated October 7, 2008; or Airbus Mandatory Service Bulletin A340-57-4117, dated October 7, 2008; as applicable.

Table 1—Compliance Times
Model | Threshold from the first flight (whichever occurs first)
A330-300 series airplanes | 17,700 total flight cycles or 53,100 total flight hours.
A340-200 series airplanes with modification 41652S11888 | 11,900 total flight cycles or 80,700 total flight hours.
A340-300 series airplanes with modification 41652S11888 | 11,900 total flight cycles or 80,700 total flight hours.
A340-200 series airplanes without modification 41652S11888 | 14,500 total flight cycles or 98,200 total flight hours.
A340-300 series airplanes without modification 41652S11888 | 12,700 total flight cycles or 85,900 total flight hours.

(2) Repeat the inspection required by paragraph (f)(1) of this AD within the applicable intervals as specified in Table 2 of this AD, in accordance with the Accomplishment Instructions of Airbus Mandatory Service Bulletin A330-57-3107, dated October 7, 2008; or Airbus Mandatory Service Bulletin A340-57-4117, dated October 7, 2008; as applicable.

Table 2—Repetitive Inspection Intervals
Model | Intervals (not to exceed)
A330-300 series airplanes | 12,800 flight cycles or 38,500 flight hours, whichever occurs first.
A340-200 series airplanes with modification 41652S11888 | 8,600 flight cycles or 58,500 flight hours, whichever occurs first.
A340-300 series airplanes with modification 41652S11888 | 8,600 flight cycles or 58,500 flight hours, whichever occurs first.
A340-200 series airplanes without modification 41652S11888 | 10,500 flight cycles or 71,200 flight hours, whichever occurs first.
A340-300 series airplanes without modification 41652S11888 | 9,200 flight cycles or 62,300 flight hours, whichever occurs first.

(3) Where Airbus Mandatory Service Bulletin A330-57-3107, dated October 7, 2008; and Airbus Mandatory Service Bulletin A340-57-4117, dated October 7, 2008; recommend contacting Airbus for appropriate action: Before further flight, contact Airbus for repair instructions and do the repair.

(4) Accomplishment of the inspections required by paragraph (f)(1) of this AD before the effective date of this AD in accordance with the instructions of Airbus Technical Disposition LR5710D07014394, Issue B, dated September 24, 2008, is acceptable for compliance with the requirements of paragraph (f)(1) of this AD. However, inspections must be repeated thereafter in accordance with the requirements of paragraph (f)(2) of this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0001, dated January 8, 2009; Airbus Mandatory Service Bulletin A330-57-3107, dated October 7, 2008; and Airbus Mandatory Service Bulletin A340-57-4117, dated October 7, 2008; for related information.

Material Incorporated by Reference

(i) You must use Airbus Mandatory Service Bulletin A330-57-3107, including Appendices 01 and 02, dated October 7, 2008; or Airbus Mandatory Service Bulletin A340-57-4117, including Appendices 01 and 02, dated October 7, 2008, as applicable, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on July 2, 2009.
Ali Bahrami,
Manager, Transport Airplane Directorate, Aircraft Certification Service.

[FR Doc. E9-16924 Filed 7-20-09; 8:45 am]

BILLING CODE 4910-13-P